DEPARTMENT OF TRANSPORTATION

Maritime Administration

46 CFR Part 207

[Docket No. MARAD-2000-8464]

RIN 2133-AB43

Statistical Data for Use in Operating-Differential Subsidy Application Hearings

AGENCY: Maritime Administration, Transportation.

ACTION: Final rule.

SUMMARY: The Maritime Administration (MARAD, we, our, or us) is removing Part 207—Statistical Data for Use in Operating-Differential Subsidy Application Hearings (part 207). Statutory changes of the Maritime Security Act of 1996 provided that a hearing process would no longer apply to the operating-differential subsidy (ODS) program. Moreover, Congress withdrew MARAD's authority to grant new ODS contracts.

DATES: This final rule is effective on December 12, 2000.

FOR FURTHER INFORMATION CONTACT: Mr. Edmond J. Fitzgerald, Office of Insurance and Shipping Analysis, (202) 366-2400. You may send mail to Mr. Fitzgerald at Maritime Administration, Office of Insurance and Shipping Analysis, Room 8117, 400 Seventh Street, SW., Washington, DC 20590.

SUPPLEMENTARY INFORMATION:

Background

This final rule is a result of a review of our regulations pursuant to Executive Order 12866 Regulatory Planning and Review and the Department of Transportation's Regulatory Policies and Procedures. Both directives require review of our existing regulations to determine whether they need to be revised or removed. We are removing part 207 because it is no longer necessary. Statutory changes of the Maritime Security Act of 1996 provided that a hearing process would no longer apply to the ODS program (46 App. U.S.C. 1185a). We find good cause under 5 U.S.C. 553(b) of the Administrative Procedure Act to forgo notice and public comment because these procedures would be impracticable and unnecessary. We also find good cause to make this rule effective upon the date of publication as it presents no substantive issue.

The Merchant Marine Act of 1936, as amended (the Act), established various programs aimed at fostering and maintaining a U.S. merchant marine capable of meeting the needs of U.S. commerce and national defense. One of the key programs under the Act was the payment of ODS to qualified U.S.-flag shipping companies for the operation of ships in essential foreign commerce for the United States. This program sought to equalize the disparity in operating costs between American ships and their foreign competitors relative to wages of officers and crews, insurance, and maintenance and repairs not covered by insurance.

Part 207 identified the basic statistical data and reports required by the Maritime Subsidy Board in hearings held under section 605(c) of the Act for ODS applications and provided procedures for the production of these data and reports. The ODS program largely expired at the end of 1997 and was replaced by the Maritime Security Program (MSP) authorized in the Maritime Security Act of 1996 (46 App. U.S.C. 1185a; 1187 et seq.).

We are removing part 207 because statutory changes of the Maritime Security Act of 1996 provided that a hearing process would no longer apply to the ODS program. The statistical data were used in hearings to determine if existing U.S.-flag service was adequate. Moreover, Congress withdrew MARAD's authority to grant new ODS contracts.

Rulemaking Analyses and Notices

Executive Order 12866 and DOT Regulatory Policies and Procedures

We have reviewed this final rule under Executive Order 12866 and have determined that this is not a significant regulatory action. Additionally, this final rule is not likely to result in an annual effect on the economy of $100 million or more. This rulemaking removes Part 207—Statistical Data for Use in Operating-Differential Subsidy Application Hearings. Statutory changes of the Maritime Security Act of 1996 provided that a hearing process would no longer apply to the ODS program.

This final rule is also not significant under the Regulatory Policies and Procedures of the Department of Transportation (44 FR 11034, February 26, 1979). The costs and benefits associated with this rulemaking are considered to be so minimal that no further analysis is necessary. Because the economic impact, if any, should be minimal, further regulatory evaluation is not necessary.

Regulatory Flexibility Act

This final rule will not have a significant economic impact on a substantial number of small entities. This final rule removes Part 207—Statistical Data for Use in Operating-Differential Subsidy Application Hearings from the Code of Federal Regulations in compliance with statutory changes of the Maritime Security Act of 1996 which provided that a hearing process would no longer apply to the ODS program. Statistical data was used in hearings to determine if existing U.S.-flag service was adequate. Adequacy is no longer a criterion for granting ODS contracts. Moreover, Congress has withdrawn MARAD's authority to grant new ODS contracts. Therefore, MARAD certifies that this final rule will not have a significant economic impact on a substantial number of small entities.

Plain Language

Executive Order 12866 and the President's memorandum on plain language in government writing of June 1, 1998, require each agency to write all rules in plain language. The Department of Transportation and MARAD are committed to plain language in government writing; therefore, we have written this final rule in plain language to provide easier understanding. Our goal is clarity, and we invite your comments on how to make this final rule easier to understand.

Federalism

We have analyzed this final rule in accordance with the principles and criteria contained in E.O. 13132 (“Federalism”) and have determined that it does not have sufficient federalism implications to warrant the preparation of a federalism summary impact statement. These regulations have no substantial effects on the States, or on the current Federal-State relationship, or on the current distribution of power and responsibilities among the various local officials. Therefore, consultation with State and local officials was not necessary.

Environmental Impact Statement

We have analyzed this final rule for purposes of compliance with the National Environmental Policy Act of 1969 (42 U.S.C. 4321 et seq.) and have concluded that under the categorical exclusions provision in section 4.05 of Maritime Administrative Order (“MAO”) 600-1, “Procedures for Considering Environmental Impacts”, 50 FR 11606 (March 22, 1985), the preparation of an Environmental Assessment, and an Environmental Impact Statement, or a Finding of No Significant Impact for this final rule is not required. This final rule removes 46 CFR part 207.

Executive Order 13084

MARAD does not believe that this final rule will significantly or uniquely affect the communities of Indian tribal governments when analyzed under the principles and criteria contained in Executive Order 13084 (“Consultation and Coordination with Indian Tribal Governments”). Therefore, the funding and consultation requirements of this Executive Order would not apply.

Unfunded Mandates Reform Act of 1995

This final rule does not impose an unfunded mandate under the Unfunded Mandates Reform Act of 1995. It does not result in costs of $100 million or more, in the aggregate, to any of the following: State, local, or Native American tribal governments, or the private sector. This final rule is the least burdensome alternative that achieves the objective of the rule.

Paperwork Reduction Act

This final rule does not contain information collection requirements covered by 5 CFR part 1320 requiring OMB approval.

Regulation Identifier Number (RIN)

The Department of Transportation assigns a regulation identifier number (RIN) to each regulatory action listed in the Unified Agenda of Federal Regulations. The Regulatory Information Service Center publishes the Unified Agenda in April and October of each year. The RIN number is contained in the heading of this document to cross-reference this action with the Unified Agenda.

List of Subjects in CFR Part 207

Administrative practice and procedure, Economic statistics, Grant programs-transportation.

Accordingly, under the authority of 46 App. U.S.C. 1114, 46 App. U.S.C. 1171 et seq., and as discussed in the preamble, MARAD amends 46 CFR Chapter II by removing part 207.

Dated: December 6, 2000.
By order of the Maritime Administrator.
Joel C. Richard,
Secretary, Maritime Administration.

[FR Doc. 00-31528 Filed 12-11-00; 8:45 am]

BILLING CODE 4910-81-P